DEPARTMENT OF HOMELAND SECURITY

Coast Guard

[Docket No. USCG-2018-0488]

Notice of Public Workshop on Consistent Implementation of Regulation 14.1.3 of MARPOL Annex VI (Global 0.50% Sulfur Cap)

AGENCY: Coast Guard, DHS.

ACTION: Notice of meeting.

SUMMARY: The United States Coast Guard and United States Environmental Protection Administration will conduct a public workshop in Washington, DC in preparation for the upcoming intersessional working group meeting of the International Maritime Organization (IMO) on consistent implementation of regulation 14.1.3 of MARPOL Annex IV (Global 0.50% Sulfur Cap). The purpose of this meeting will be to consider the issues that will be discussed at that intersessional working group meeting.

DATES: This public meeting will be held on Tuesday, June 5, beginning at 10:00 a.m. and ending at 2:00 p.m., Eastern Time. This meeting is open to the public.

ADDRESSES: The public meeting will be held in Room 5, located on the first floor near the main entrance of the United States Department of Transportation building in Washington, DC. The United States Department of Transportation building is located at 1200 New Jersey Ave. SE, in Washington, DC, across the street from the Navy Yard-Ballpark Metro Station. Due to security requirements, each visitor must present a valid government-issued photo identification (for example, a driver's license) in order to gain entrance to the building. Those desiring to attend the public meeting should contact the Coast Guard ahead of the meeting (see FOR FURTHER INFORMATION CONTACT) to facilitate the security process related to building access, or to request reasonable accommodation.

FOR FURTHER INFORMATION CONTACT: For additional information about this public meeting you may contact Mr. Wayne Lundy by telephone at (202) 372-1379 or by email at Wayne.M.Lundy@uscg.mil.

SUPPLEMENTARY INFORMATION: Annex VI to the International Convention for the Prevention of Pollution from Ships (MARPOL Annex VI) addresses air pollution from ships. Regulation 14 addresses particulate matter (PM) and sulfur oxide (SOX) emissions through fuel sulfur content limits. Beginning on January 1, 2015, fuel used in ships operating in designated Emission Control Areas (ECAs), including the North American and U.S. Caribbean Sea ECAs, may not exceed 1,000 ppm. Outside of designated ECAs, the sulfur content of marine fuel currently may not exceed 35,000 ppm; this limit will be reduced to 5,000 ppm beginning on January 1, 2020.

As required by Regulation 14.8 of Annex VI, the 2020 global sulfur cap was reviewed and the limit was confirmed by the Marine Environment Protection Committee at its 70th session in 2017. At the 71st session, the Marine Environment Protection Committee agreed on a new work output to consider measures to promote consistent implementation of the global sulfur cap to address industry concerns and promote a level playing field with regard to compliance and enforcement of the new standards. An intersessional working group meeting will be held in July 2018, and recommendations will be provided to the 73rd session of the Marine Environment Protection Committee that meets in October 2018.

To obtain stakeholder input in advance of the intersessional working group meeting, the Coast Guard and EPA will conduct a meeting on Tuesday, June 5 at the United States Department of Transportation building in Washington, DC. At this meeting, the Coast Guard and EPA will provide background information on the MEPC action; afterwards, a discussion will be moderated by Coast Guard to consider the following topics.

○ What preparatory and transitional issues should be considered, and how should they be addressed? Ship owners are expected to develop plans and procedures to ensure their ships operate with compliant fuel beginning January 1, 2020. However, issues may arise for a short period after the effective date of the global sulfur cap that may impede compliance. Stakeholders are encouraged to describe what these issues are, how they may be resolved, and the length of time they are expected to occur.

○ Are there safety and machinery impacts associated with the use of blended fuels, and how should these be addressed? At this time it is not known the extent to which fuels compliant with the 2020 global sulfur cap will be purpose refined or blended. Stakeholders are encouraged to describe whether they expect to use blended fuels and whether they expect to adopt special procedures to handle and use such fuels.

○ Regulation 18.2 requires ships to report fuel oil non-availability. One option being addressed by the Committee is the creation of a formal Fuel Oil Non-Availability Reporting (FONAR) system, which would require a ship to file a report with the port State, the ship's flag administration, and potentially the IMO, if the ship is unable to obtain compliant fuel without deviating from its planned voyage. Stakeholders are encouraged to indicate if such a system would be helpful and, if so, whether the reporting be uniform, the information that should be included in a standard format, how efforts to obtain compliant fuel should be documented, and where the report should be filed.

○ What shipboard verification procedures should be encouraged/required, and how can these procedures facilitate verification? As specified in Annex VI, assessment of a ship's compliance with the fuel sulfur limits relies on examination of bunker delivery notes and, potentially, analysis of the MARPOL sample. Stakeholders are encouraged to indicate how this system can be improved to provide timely analysis of this information (e.g., ship-prepared summary reports of bunker delivery notes). Stakeholders are also invited to provide input on other methods to verify compliance, such as onboard fuel sampling or other types of verification (e.g., continuous SOX emission monitoring).

○ What methods and procedures can port States adopt to facilitate a level playing field?

○ What methods and procedures can flag States adopt to facilitate a level playing field?

○ What type of guidance, if any, would be helpful to ensure consistent implementation and a level playing field?

This meeting is open to the public. Please note that the public meeting has a limited number of seats and may close early if all business is finished. Those interested in attending should contact Mr. Wayne Lundy by telephone at (202) 372-1379 or by email at Wayne.M.Lundy@uscg.mil.

Summaries of comments made, materials presented, and lists of attendees will be available on the docket at the conclusion of the meeting. To view comments and materials in the docket, go to http://www.regulations.gov at any time, enter the docket number “USCG-2018-0488” in the Search box, and click on “Go>>.”

Information on Services for Individuals With Disabilities

For information on facilities or services for individuals with disabilities or to request special assistance at the meeting, contact Mr. Wayne Lundy at (202) 372-1379 or by email at Wayne.M.Lundy@uscg.mil as soon as possible.

B.J. Hawkins,
Acting Director of Commercial Regulations and Standards, U.S. Coast Guard.

[FR Doc. 2018-10696 Filed 5-18-18; 8:45 am]

BILLING CODE P